DEPARTMENT OF ENERGY

Western Area Power Administration

Loveland Area Projects—Western Area Colorado Missouri Balancing Authority-Rate Order No. WAPA 118

AGENCY: Western Area Power Administration, DOE.

ACTION: Notice of proposed rate.

SUMMARY: The Western Area Power Administration (Western) is proposing an adjustment for its Regulation and Frequency Response Service (Regulation) rate. The current rate, Rate Schedule No. L-AS3, will expire February 28, 2009.

Western is undertaking this rate adjustment in response to anticipated load and resource growth and the corresponding impact on the Western Area Colorado Missouri (WACM) Balancing Authority (WACM Balancing Authority). Prior to April 1, 2005, the WACM Balancing Authority was known as the WACM Control Area.

This proposed rate adjustment will ensure that users of Regulation service within the WACM Balancing Authority are appropriately assessed for their Regulation usage and that sufficient revenue is collected to cover provision of the service. Publication of this Federal Register notice begins the formal process for the proposed rate adjustment.

DATES: The consultation and comment period begins today and will end September 19, 2005. Western will present a detailed explanation of the proposed rate adjustment at the public information forum, to be held on the following date and time:

1. July 27, 2005, 10 a.m. MDT, Denver, CO.

Western will accept oral and written comments at the public comment forum, to be held on the following date and time:

1. July 27, 2005, 1 p.m. MDT, Denver, CO.

Western will accept written comments at any time during the consultation and comment period.

ADDRESSES: Send written comments to Edward F. Hulls, Operations Manager, Rocky Mountain Customer Service Region (RMR), Western Area Power Administration, P.O. Box 3700, Loveland, CO 80539-3003, e-mail LAPRegRateAdjust@wapa.gov. Western will post information about the rate process on its Web site at http://www.wapa.gov/rm/reg_rate_information.htm. Western will post official comments received via letter and e-mail after the close of the consultation and comment period. Written comments must be received by the end of the consultation and comment period to ensure they are considered in Western's decision process. Western's public information forum and public comment forum will both be held at the following location:

1. Radisson Hotel, Stapleton Plaza, 3333 Quebec Street, Denver, CO 80207, (303) 321-3500.

FOR FURTHER INFORMATION CONTACT: Mr. Edward F. Hulls, Operations Manager, RMR, Western Area Power Administration, P.O. Box 3700, Loveland, CO 80539-3003, telephone (970) 461-7566, e-mail LAPRegRateAdjust@wapa.gov; or Mr. Daniel T. Payton, Rates Manager, RMR, Western Area Power Administration, P.O. Box 3700, Loveland, CO 80539-3003, telephone (970) 461-7442, e-mail LAPRegRateAdjust@wapa.gov.

SUPPLEMENTARY INFORMATION: The current Rate Schedule L-AS3 was approved by the Deputy Secretary of Energy as part of Rate Order No. WAPA-106 (69 FR 1723-1738) on January 12, 2004, which placed formula rates for Loveland Area Projects (LAP) transmission and ancillary services into effect on an interim basis effective March 1, 2004. On January 31, 2005, the Federal Energy Regulatory Commission (Commission) confirmed and approved the formula rates under FERC Docket No. EF04-5182-000 (110 FERC 62,084). The approval of Rate Schedule L-AS3 covers the five (5) year period beginning on March 1, 2004, and ending on February 28, 2009.

The existing formula rate methodology for this rate will change under the proposed adjustment. Additionally, the proposed rate includes four different applications: (1) Load-based assessment; (2) generator-based assessment; (3) load-based with non-dispatchable resource(s) in the generation portfolio; and (4) assessment of self-provision for Regulation service, as follows:

(1) Load-Based Assessment

The first application of the Regulation rate will be assessed to entities serving load within the WACM Balancing Authority. This load-based rate will be assessed on an entity's auxiliary load (total metered load less Federal entitlements).

Western will periodically evaluate each entity's load and generation patterns and determine whether or not they are within normal limits (conforming vs. non-conforming). Based on these periodic evaluations, Western may adjust the Regulation charges for an entity.

(2) Generator-Based Assessment

The second application of this Regulation rate will be assessed to entities that have a generating resource, but serve no load, within the WACM Balancing Authority.

Based on the characteristics of the specific generator, Western will determine the amount of Regulation required for the resource. Based on Western's periodic evaluation of the resource's performance, the Regulation requirements for the resource may be adjusted.

(3) Load-Based Assessment With Non-Dispatchable Resource(s) In the Generation Portfolio

The third application of this rate will be assessed much like the load-based assessment, but will apply specifically to entities that also have non-dispatchable resource(s) in their generation portfolio.

In addition to the load-based charges outlined above, the entity will also be assessed the load-based Regulation charge for its non-dispatchable resource(s) equal to or less than 10 percent of that entity's auxiliary load. For non-dispatchable resource(s) beyond 10 percent of an entity's auxiliary load, Western will determine the amount of required Regulation and charge Western's pass-through cost for providing the service.

(4) Self-Provision Assessment

The fourth application of this rate will allow for the self-provision of Regulation service. The WACM Balancing Authority will allow entities serving load inside the Balancing Authority to self-provide Regulation service for their load(s) and resource(s). These entities will be known as Sub-Balancing Authorities. The Sub-Balancing Authorities must meet all of the following criteria to be eligible for self-provision of Regulation service:

1. Have a well-defined boundary with the WACM Balancing Authority equipped with revenue-quality metering accuracy as defined by the North American Electric Reliability Council (NERC), to include megawatt (MW) flow data availability at 1-minute or smaller intervals.

2. Have Automatic Generation Control (AGC) capability.

3. Demonstrate Regulation capability.

4. Execute a contract with the Balancing Authority that requires the entity to:

a. Provide all requested necessary data to the Balancing Authority

b. Meet Sub-Balancing Authority Error Criteria (SBAEC)

Levels of Self-Provision

The type of operating system that the entity has in place will determine the level of self-provision provided. A requesting Sub-Balancing Authority must participate in regular performance testing and must provide sufficient documentation to receive full or partial credit for self-provision of Regulation service.

Sub-Balancing Authorities with automatic control of generation in response to an internal error signal within the subject system may wish to provide for their own Regulation requirements. The internal error signal will consist of the measurement of a schedule across a known boundary, compared to the actual flow across the known boundary. For these entities, Western will require one of the following criteria:

1. The Sub-Balancing Authority must be willing and able to respond to the WACM Balancing Authority's dynamic signal, proportional to the Sub-Balancing Authority's load within the Balancing Authority.

2. The Sub-Balancing Authority must allow the WACM Balancing Authority direct access to pulse the Sub-Balancing Authority's regulating units, proportional to their share of the Regulation requirement from the Balancing Authority.

3. The Sub-Balancing Authority and the WACM Balancing Authority may mutually agree to any other proven methodology and process.

A Sub-Balancing Authority that does not have automatic control of the generation, with all control reactions to an error signal processed manually, may desire to self-provide Regulation service. This type of entity will have its Regulation service usage determined by an hourly calculation that measures the first derivative of the averaged 1-minute change in the Sub-Balancing Authority's error signal. The only exception will be those hours when there is a reserve activation response call in which the entity either receives or provides energy to the reserve group.

Contributions for Frequency Bias

For those entities operating automated generation control in a tie-line bias mode, subject to the requirements for Frequency Responsive Reserves (FRR), the WACM Balancing Authority intends to offset the calculated Regulation requirement by an amount equal to the weighted average hourly frequency multiplied by an entity's frequency response bias factor. This will eliminate any Regulation costs incurred due to the provision of frequency support to the interconnection.

For a requesting entity to qualify for this accommodation, it must provide the WACM Balancing Authority with data required for physical confirmation of FRR participation. Minimum data that must be provided in real time includes the scan-by-scan information regarding individual unit capability, real MW output, and reactive megavolt-ampere output. Engineering data commonly used for system modeling must also be provided. Other data may be required and will be requested in writing. No credit(s) will be allowed for frequency bias contributions until the requested real-time and engineering data is provided to the WACM Balancing Authority.

Customer Accommodation

Western will work with entities unwilling to take Regulation service from the WACM Balancing Authority, self-provide it, or provide it from a third party, to meter their resources and/or loads out of the Balancing Authority. Until such time as that meter reconfiguration is accomplished, the WACM Balancing Authority will charge the entity for Regulation service under the rate then in effect.

Legal Authority

Western has determined that the proposed rate constitutes a minor rate adjustment as defined by 10 CFR part 903, and has established a 90-day comment period. During that time, Western will hold both a public information forum and a public comment forum. After review of public comments, and possible amendments or adjustments, Western will recommend that the Deputy Secretary of Energy approve the proposed rate on an interim basis.

Western is establishing this proposed rate adjustment for Regulation and Frequency Response Service under the Department of Energy Organization Act (42 U.S.C. 7152); the Reclamation Act of 1902 (ch 1093, 32 Stat. 388), as amended and supplemented by subsequent enactments, particularly section 9(c) of the Reclamation Project Act of 1939 (43 U.S.C. 485h(c)) and section 5 of the Flood Control Act of 1944 (16 U.S.C. 825s); and other acts specifically applicable to the projects involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Federal Energy Regulatory Commission. Existing DOE procedures for public participation in power rate adjustments (10 CFR part 903) were published on September 18, 1985 (50 FR 37835).

Availability of Information

All brochures, studies, comments, letters, memoranda, e-mail, or other documents made or kept by Western for developing the proposed rate will be made available for inspection and copying at the Rocky Mountain Customer Service Region office located at 5555 East Crossroads Boulevard, Loveland, CO 80538.

Western's Customer Rate Brochure for this rate adjustment is available on Western's Web site at http://www.wapa.gov/rm/reg_rate_information.htm.

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. This action does not require a regulatory flexibility analysis since it is a rulemaking of particular applicability involving rates or services applicable to public property.

Environmental Compliance

In compliance with the National Environmental Policy Act of 1969 (NEPA) (42 U.S.C. 4321, et seq.); Council on Environmental Quality Regulations (40 CFR parts 1500-1508); and DOE NEPA Regulations (10 CFR part 1021), Western has determined this action is categorically excluded from preparing an environmental assessment or an environmental impact statement.

Determination Under Executive Order 12866

Western has an exemption from centralized regulatory review under Executive Order 12866; accordingly, no clearance of this notice by the Office of Management and Budget is required.

Small Business Regulatory Enforcement Fairness Act

Western has determined that this rule is exempt from congressional notification requirements under 5 U.S.C. 801 because the action is a rulemaking of particular applicability relating to rates or services and involves matters of procedure.

Dated: April 28, 2005.
Michael S. Hacskaylo,
Administrator.

[FR Doc. 05-12072 Filed 6-17-05; 8:45 am]

BILLING CODE 6450-01-P